NATIONAL AERONAUTICS AND SPACE ADMINISTRATION

[Notice 02-061]

Notice of Prospective Patent License

AGENCY: National Aeronautics and Space Administration.

ACTION: Notice of prospective patent license.

SUMMARY: NASA hereby gives notice that Veridian Engineering, Inc. of Dayton, Ohio, 45440-3638 has applied for an exclusive license to practice the inventions disclosed in U.S. Patent No. 5,736,642, entitled “Nonlinear Ultrasonic Scanning to Detect Material Defects,” U.S. Patent No. 6,343,513, entitled “Non-Destructive Evaluation Method and Apparatus for Measuring Acoustic Material Nonlinearity,” and NASA Case No. LAR 15927-1 entitled “Method and Apparatus to Ultrasonically Determine Fatigue State,” for which a U.S. Patent Application was filed and assigned to the United States of America as represented by the Administrator of the National Aeronautics and Space Administration. Written objections to the prospective grant of a license should be sent to Langley Research Center. NASA has not yet made a determination to grant the requested license and may deny the requested license even if no objections are submitted within the comment period.

DATES: Responses to this notice must be received by June 5, 2002.

FOR FURTHER INFORMATION CONTACT: Helen M. Galus, Patent Attorney, Langley Research Center, Mail Stop 212, Hampton, VA 23681-2199, telephone (757) 864-3227; fax (757) 864-9190.

Dated: May 15, 2002.
Robert M. Stephens,
Deputy General Counsel.

[FR Doc. 02-12692 Filed 5-20-02; 8:45 am]

BILLING CODE 7510-01-P